FEDERAL COMMUNICATIONS COMMISSION

47 CFR Part 25

[IB Docket No. 01-185; ET Docket No. 95-18; DA 02-601]

Flexibility in the Delivery of Communications by Mobile Satellite Service Providers in the 2 GHz Band, the L-Band, and the 1.6/2.4 GHz Band

AGENCY: Federal Communications Commission.

ACTION: Proposed rule; order extending comment period.

SUMMARY: This document extends by seven days the time in which parties may provide additional technical comment on issues pertaining to issues the Commission considered in the Notice of Proposed Rulemaking in IB Docket No. 01-185 and ET Docket No. 95-18, Flexibility for Delivery of Communications by Mobile Satellite Service Providers in the 2 GHz Band, the L-Band, and the 1.6/2.4 GHz Band.

DATES: Comments are due March 22, 2002.¹

¹ Editorial note: This document was received at the Office of the Federal Register on April 2, 2002.

FOR FURTHER INFORMATION CONTACT: Trey Hanbury, Special Counsel, International Bureau, (202) 418-0766.

SUPPLEMENTARY INFORMATION: This is a summary of the Commission's document regarding IB Docket No. 01-185 and ET Docket No. 95-18, released on March 6, 2002. The complete text of this document is available for inspection and copying during normal business hours in the FCC Reference Information Center, Portals II, 445 12th Street, SW., Room CY-A257, Washington, DC, 20554. This document may also be purchased from the Commission's duplicating contractor, Qualex International, Portals II, 445 12th Street, SW., Room CY-B402, Washington, DC 20554, telephone 202-863-2893, facsimile 202-863-2898, or via e-mail qualexint@aol.com. It is also available on the Commission's website at http://www.fcc.gov.

Synopsis

1. On August 17, 2001, the Commission released the Flexibility Notice of Proposed Rulemaking, 66 FR 47621 (Sept. 13, 2001) on proposals to bring flexibility to the delivery of communications by mobile satellite service (MSS) providers. One alternative proposal under consideration would open portions of the MSS bands for any operator to provide a terrestrial service that could either be offered in conjunction with MSS or as an alternative mobile service. Additional technical comment on this alternative proposal will assist the Commission in reaching a decision in this proceeding.

2. This document allows an additional seven days for parties to file technical comment on issues pertaining to the alternative proposal for MSS operations. The new deadline for additional technical comment is March 22, 2002.

Federal Communications Commission.
James Ball,
Chief, Policy Division, International Bureau.

[FR Doc. 02-8252 Filed 4-4-02; 8:45 am]

BILLING CODE 6712-01-P